DEPARTMENT OF HOMELAND SECURITY

Coast Guard

[Docket No. USCG-2009-0652]

Baton Rouge Waterways Action Plan Annex

AGENCY: Coast Guard, DHS.

ACTION: Notice of public meeting; request for comments.

SUMMARY: The Coast Guard announces a public meeting to receive comments on the Baton Rouge Waterways Action Plan Annex.

DATES: A public meeting will be held on Thursday, July 30, 2009 from 8 a.m. to 11:30 a.m. and 1 p.m. to 4 p.m., and Friday, July 31, 2009 from 8 a.m. to 11:30 a.m. to provide an opportunity for oral comments. Written comments and related material may also be submitted to Coast Guard personnel specified at that meeting. All written comments and related material submitted after the meeting must be received by the Coast Guard on or before August 31, 2009.

ADDRESSES: The public meeting will be held in the Louisiana Room at the State of Louisiana Department of Wildlife and Fisheries Building, 2000 Quail Drive, Baton Rouge, LA 70808, telephone (225) 765-2623. A government-issued photo identification card will be required for entrance to the building.

You may submit written comments identified by docket number USCG-2009-0652 before or after the meeting using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand Delivery: Same as mail address above, between 9 a.m. and 5 p.m., Monday through Friday, except Federal holidays. The telephone number is 202-366-9329.

To avoid duplication, please use only one of these four methods. Our online docket for this meeting is available on the Internet at http://www.regulations.gov under docket number USCG-2009-0652.

FOR FURTHER INFORMATION CONTACT: If you have questions concerning the meeting, please call or e-mail Lieutenant Nick Parham, Chief of Prevention and Response at Coast Guard Marine Safety Unit Baton Rouge; telephone (225) 298-5400; e-mail Nicholas.Parham@uscg.mil. If you have questions on viewing or submitting material to the docket, call Renee V. Wright, Program Manager, Docket Operations, telephone 202-366-9826.

SUPPLEMENTARY INFORMATION:

Background and Purpose

The meeting is intended to give the public the chance to comment on the current Baton Rouge Waterways Action Plan Annex and note concerns and improvements that could be made to create a more consistent and useful action plan. You may view the Baton Rouge Waterways Action Plan Annex at the following Web site: http://www.uscg.mil/d8/westernrivers/default.asp.

You may view the online docket and comments submitted thus far by going to http://www.regulations.gov. Once there, select the Advanced Docket Search option on the right side of the screen, insert USCG-2009-0652 in the Docket ID box, press Enter, and then click on the item in the Docket ID column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

We encourage you to participate in this meeting by submitting comments either orally at the meeting or in writing. If you bring written comments to the meeting, you may submit them to Coast Guard personnel specified at the meeting to receive written comments. These comments will be submitted to our online public docket. All comments received will be posted without change to http://www.regulations.gov and will include any personal information you have provided.

Comments submitted after the meeting must reach the Coast Guard on or before August 31, 2009. If you submit a comment online via http://www.regulations.gov, it will be considered received by the Coast Guard when you successfully transmit the comment. If you fax, hand delivery, or mail your comment, it will be considered as having been received by the Coast Guard when it is received at the Docket Management Facility.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Service for Individuals With Disabilities

For information on facilities or services for individuals with disabilities or to request special assistance at the public meeting, contact LT Nick Parham, United States Coast Guard, at the telephone number or e-mail address indicated under the FOR FURTHER INFORMATION CONTACT section of this notice.

Public Meeting

The Coast Guard will hold a public meeting regarding the Baton Rouge Waterways Action Plan Annex on Thursday, July 30, 2009 from 8 a.m. to 11:30 a.m. and 1 p.m. to 4 p.m., and Friday, July 31, 2009 from 8 a.m. to 11:30 a.m. at the Louisiana Room at the State of Louisiana Department of Wildlife and Fisheries Building, 2000 Quail Drive, Baton Rouge, LA 70808, telephone (225) 765-2623. The meeting location is not accessible by public transportation. Parking is available at no cost.

A government-issued photo identification card will be required for entrance to the building. Attendees should check in at the front desk, and they will be directed to the Louisiana Room.

We will provide a written summary of the meeting and comments and place that summary in the docket.

Dated: July 9, 2009.
E.M. Stanton,
Captain, U.S. Coast Guard, Captain of the Port, New Orleans.

[FR Doc. E9-17246 Filed 7-20-09; 8:45 am]

BILLING CODE 4910-15-P